DEPARTMENT OF ENERGY

Federal Energy Regulatory Commission

[Docket No. AD02-1-000]

Federal Energy Regulatory Records Information System; Notice of Intent To Replace the Commission Issuance Posting System, Records Information Management System and Docket Sheet System

May 13, 2002.

The Federal Energy Regulatory Commission (the Commission), hereby gives notice that it intends to discontinue updating its Commission Issuance Posting System (CIPS), Records Information Management System (RIMS) and its Docket Sheet System on the web. As detailed in the notice of March 3, 2002 in the referenced docket, the Commission intends to combine these three online systems into a single online system called the Federal Energy Regulatory Records Information System (FERRIS).

This notice announces the coming availability of the new system. The Commission will start updating FERRIS with current issuances (CIPS data only) on or about May 20, 2002. On or about June 1, 2002, the Commission will complete the conversion of RIMS files and will discontinue updating CIPS, RIMS and Docket Sheets. Please refer to the Commission's website for the announcement of the exact dates these systems will no longer be updated.

To familiarize the public with the features of the new system, the Commission is holding demonstrations and classes. Dates for these events, held at the Commission's headquarters and through the web, are announced under the link, Demo's & Classes, on the FERRIS introductory page on the Commission's website, http://www.ferc.gov/help/demos_classes.htm.

Magalie R. Salas,
Secretary.

[FR Doc. 02-12367 Filed 5-16-02; 8:45 am]

BILLING CODE 6717-01-P